DEPARTMENT OF ENERGY

Federal Energy Regulatory Commission

Combined Notice of Filings

Take notice that the Commission has received the following Natural Gas Pipeline Rate and Refund Report filings:

Docket Number: PR20-10-001.

Applicants: UGI Utilities, Inc.

Description: Tariff filing per 284.123(b), (e) + (g): Revisions to Statement of Operating Conditions per FERC Review to be effective 11/18/2019.

Filed Date: 1/15/20.

Accession Number: 202001155034.

Comments Due: 5 p.m. ET 2/5/20.

284.123(g) Protests Due: 5 p.m. ET 2/5/20.

Docket Number: PR20-21-000.

Applicants: Southcross Alabama Pipeline LLC.

Description: Tariff filing per 284.123(b)(2) + (g): Third Coast Alabama, LLC Section 311 Filing to be effective 12/16/2019.

Filed Date: 1/15/20.

Accession Number: 202001155044.

Comments Due: 5 p.m. ET 2/5/20.

284.123(g) Protests Due: 5 p.m. ET 3/16/20.

Docket Number: PR20-22-000.

Applicants: Southcross Mississippi Pipeline, L.P.

Description: Tariff filing per 284.123(b)(2) + (g): Third Coast Mississippi LLC Section 311 and Name Change Filing to be effective 12/16/2019.

Filed Date: 1/15/20.

Accession Number: 202001155045.

Comments Due: 5 p.m. ET 2/5/20.

284.123(g) Protests Due: 5 p.m. ET 3/16/20.

Docket Numbers: RP19-1353-005.

Applicants: Northern Natural Gas Company.

Description: Compliance filing 20200115 Base Case Non-Rate Technical Conference Compliance Filing to be effective 1/1/2020.

Filed Date: 1/15/20.

Accession Number: 20200115-5120.

Comments Due: 5 p.m. ET 1/27/20.

Docket Numbers: RP20-270-001.

Applicants: ANR Pipeline Company.

Description: Compliance filing Prepayments Compliance to be effective 12/27/2019.

Filed Date: 1/15/20.

Accession Number: 20200115-5003.

Comments Due: 5 p.m. ET 1/27/20.

Docket Numbers: RP20-438-000.

Applicants: Gulf South Pipeline Company, LLC.

Description: § 4(d) Rate Filing: Superseding Neg Rate Agmt (Calyx 51780) to be effective 1/1/2020.

Filed Date: 1/15/20.

Accession Number: 20200115-5036.

Comments Due: 5 p.m. ET 1/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2020.
Nathaniel J. Davis, Sr.,
Deputy Secretary.

[FR Doc. 2020-01105 Filed 1-22-20; 8:45 am]

BILLING CODE 6717-01-P